POSTAL REGULATORY COMMISSION

[Docket No. A2007-1; Order No. 24]

Appeal of Post Office Closing in Ecorse, MI

AGENCY: Postal Regulatory Commission.

ACTION: Notice and order.

SUMMARY: This document informs the public that an appeal of the closing of the Ecorse, MI, Classified Finance Station has been filed. It identifies preliminary steps and provides a procedural schedule. Publication of this document will allow the Postal Service, petitioner, and others to take appropriate action.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: Notice is hereby given that pursuant to 39 U.S.C. 404(d), the Commission has received an appeal of the closing of the Ecorse Classified Finance Station, Ecorse, MI. The appeal was postmarked and therefore deemed filed on July 27, 2007, and a supplemental letter detailing the appeal was deemed filed with the Commission on July 30, 2007.¹ The Commission hereby institutes a proceeding under 39 U.S.C. 404(d)(5) and designates the case as Docket No. A2007-1 to consider the petitioner's appeal.

¹ The Postal Accountability and Enhancement Act section 1006 amends 39 U.S.C. 404(d) to make the date of receipt by the Commission of a post office closing appeal the date on which it receives a Postal Service postmark.

Categories of issues apparently raised. The categories of issues that appear to be raised include:

2. Observance of procedure required by law [39 U.S.C. 404(d)(5)(B)];

3. Effect on the community [39 U.S.C. 404(d)(2)(A)(i)]; and

4. Effect on employees [39 U.S.C. 404(d)(2)(A)(ii)].

After the Postal Service files the administrative record and the Commission reviews it, the Commission may find that there are more legal issues than those set forth above. Or, the Commission may find that the Postal Service's determination disposes of one or more of those issues. The deadline for the Postal Service to file the administrative record with the Commission, or otherwise file a responsive pleading, is August 13, 2007. 39 CFR 3001.113.

Availability; Web site posting. The Commission has posted the appeal and supporting material on its Web site at http://www.prc.gov. Additional filings in this case and participants' submissions also will be posted on the Web site, if provided in electronic format or amenable to conversion, and not subject to a valid protective order. Information on how to use the Commission's Web site is available online or by contacting the Commission's webmaster via telephone at 202-789-6873 or via electronic mail at prc-webmaster@prc.gov.

The appeal and all related documents are also available for public inspection in the Commission's docket section. Docket section hours are 8 a.m. to 4:30 p.m., Monday through Friday, except on Federal Government holidays. Docket section personnel may be contacted via electronic mail at prc-dockets@prc.gov or via telephone at 202-789-6846.

Filing of documents. All filings of documents in this case shall be made using the Internet (Filing Online) pursuant to Commission rules 9(a) and 10(a) at the Commission's Web site http://www.prc.gov, unless a waiver is obtained. 39 CFR 3001.9(a) and 10(a). Instructions for obtaining an account to file documents online may be found on the Commission's Web site, http://www.prc.gov, or by contacting the Commission's docket section at prc-dockets@prc.gov or via telephone at 202-789-6846. The petitioner is granted a waiver from Filing Online.

Intervention. Those, other than the petitioner and respondent, wishing to be heard in this matter are directed to file a notice of intervention on or before September 4, 2007 in accordance with 39 CFR 3001.111. The notice of intervention shall be filed using the Internet (Filing Online) at the Commission's Web site (http://www.prc.gov), unless a waiver is obtained for hardcopy filing. Rules 9(a) and 10(a) [39 CFR 3001.9(a) and 10(a).]

Further procedures. The Postal Reorganization Act requires that the Commission issue its decision within 120 days from the date this appeal was filed [39 U.S.C. 404(d)(5)]. A procedural schedule has been developed to accommodate this statutory deadline. In the interest of expedition, in light of the 120-day decision schedule, the Commission may request the Postal Service or other participants to submit memoranda of law on any appropriate issue. If requested, such memoranda will be due 14 days from the issuance of the request. Responses to such memoranda will be due 14 days from the date the memoranda are filed. As required by the Commission rules, if any motions are filed, responses are due 7 days after any such motion is filed. 39 CFR 3001.21. If necessary, the Commission also may ask petitioners or the Postal Service for more information.

Suspension application. Petitioner's supplemental letter filed on July 30, 2007, requests that the Commission suspend the effectiveness of the Postal Service's determination to close the Ecorse Classified Finance Station. Rule 114(b) [39 CFR 3001.114(b)] requires the Postal Service to file and serve on the petitioner an answer to the suspension application by August 9, 2007, unless an extension under rule 16 is granted ² [39 CFR 3001.16(b)]. The Commission finds that the Postal Service would be unduly prejudiced if it had to file a response to the suspension application by that date. Therefore, it, sua sponte, extends the Postal Service's time to answer the suspension application until August 16, 2007. The petitioner may file a reply to the Postal Service's answer within 7 days of the Postal Service filing such answer.

² Given the changes in the law discussed in footnote 1, the Postal Service's time to respond to a suspension application is shortened considerably.

Ordering Paragraphs

It is ordered:

1. The Postal Service shall file the administrative record in this appeal, or otherwise file a responsive pleading to the appeal, by August 13, 2007.

2. The Postal Service shall file an answer to the suspension application by August 16, 2007.

3. The petitioner may file a reply to the Postal Service's answer to the suspension application within 7 days of the Postal Service filing such answer.

4. The procedural schedule is listed below.

5. The petitioner is granted a waiver from Online Filing.

6. The Secretary shall arrange for publication of this notice and order and procedural schedule in the Federal Register.

Procedural Schedule
July 27, 2007 | Filing of Appeal.
August 9, 2007 | Commission Notice and Order of Filing of Appeal.
August 13, 2007 | Deadline for Postal Service to file administrative record in this appeal.
August 16, 2007 | Deadline for Postal Service to file an answer to suspension application [39 CFR 3001.114(b)].
September 4, 2007 | Last day of filing of petitions to intervene [see 39 CFR 3001.111(b)].
August 31, 2007 | Petitioner's Participant Statement or Initial Brief due [see 39 CFR 3001.115(a) and (b)].
September 20, 2007 | Postal Service's Answering Brief due [see 39 CFR 3001.115(c)].
October 5, 2007 | Petitioner's Reply Brief due should petitioner choose to file one [see 39 CFR 3001.115(d)].
October 12, 2007 | Deadline for motions by any party requesting oral argument. The Commission will schedule oral argument only when it is a necessary addition to the written filings [see 39 CFR 3001.116].
November 26, 2007 | Expiration of the Commission's 120-day decisional schedule [see 39 U.S.C. 404(d)(5)].

Dated: August 9, 2007.
By the Commission.
Steven W. Williams,
Secretary.

[FR Doc. E7-15953 Filed 8-14-07; 8:45 am]

BILLING CODE 7710-FW-P